DEPARTMENT OF THE INTERIOR

National Park Service

[NPS-WASO-NRNHL-23378; PPWOCRADI0, PCU00RP14.R50000]

National Register of Historic Places; Notification of Pending Nominations and Related Actions

AGENCY: National Park Service, Interior.

ACTION: Notice.

SUMMARY: The National Park Service is soliciting comments on the significance of properties nominated before April 29, 2017, for listing or related actions in the National Register of Historic Places.

DATES: Comments should be submitted by June 22, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before April 29, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

IDAHO

Idaho County

Yawwinma, 143 Rapid River Rd., Riggins vicinity, SG100001053

INDIANA

Dubois County

Jasper Downtown Historic District, Roughly bounded by 9th, Clay, 3rd & Mill Sts., Jasper, SG100001058

Johnson County

Greenwood Residential Historic District, Roughly bounded by Meridian, McKinley, Perry & Main Sts., Euclid & Longdon Aves., Greenwood, SG100001059

La Porte County

Forrester, James and Lavinia, Farmstead, 969 Forrester Rd., LaPorte, SG100001060

Marshall County

Bourbon Commercial Historic District, Parts of Main & Center Sts., Bourbon, SG100001061

Bourbon Residential Historic District, Main between Park & Shaffer Sts., blks. bounded by Sunset St. & Park Ave. between Thompson & Harris Sts., Park Ave., Bourbon, SG100001062

Randolph County

Ward Township District No. 5 School (Indiana's Public Common and High Schools MPS), NW. corner of 700 North & 100 East, Deerfield vicinity, MP100001064

Vigo County

Rea Park, 3500 S. 7th St., Terre Haute, SG100001065

NEW YORK

Erie County

Virginia, The, 250 Virginia St., Buffalo, SG100001067

Hamilton County

Camp Taiga, 52 Mattson Way, Long Lake, SG100001068

Monroe County

East Main Street Historic District (Inner Loop MRA), E. Main St. from South to Chestnut, East, Euclid, Clinton, Stone, Division, Elm, Atlas,, Achilles & Franklin, Rochester, MP100001069

Orleans County

Gaines District No. 2 Cobblestone Schoolhouse (Cobblestone Architecture of New York State MPS), 3286 Gaines Basin Rd., Albion vicinity, MP100001070

Schenectady County

St. Mary's Catholic Church Complex, 820-828 Eastern Ave. & 104 Irving St., Schenectady vicinity, SG100001071

Schoharie County

Bice, Marshall D., House, 229 Main St., Schoharie, SG100001072

OKLAHOMA

Garfield County, Harrison School, 212 W. Birch Ave., Enid, SG100001073

Logan County

Ozark Trails—Indian Meridian Obelisk, Jct. of Logan & E. Washington Aves., Langston, SG100001074

SOUTH CAROLINA

Charleston County

Lawton—Seabrook Cemetery, 7938 Steamboat Landing Rd., Edisto Island, SG100001075

Horry County

Waikiki Village Motel, 1500 S. Ocean Blvd., Myrtle Beach, SG100001076

UTAH

Cache County

River Heights Sinclair Station, 594 South 400 East, River Heights, SG100001077

VIRGINIA

Alexandria Independent City

Appomattox Statue, Jct. of Prince & Washington Sts., Alexandria (Independent City), SG100001066

Culpeper County

Lord Culpeper Hotel, 401 S. Main St., Culpeper, SG100001078

Giles County

Doe Creek Farm, 412 Doe Creek Rd., Pearisburg vicinity, SG100001079

Harrisonburg Independent City

Turner Ashby Monument, 1164 Turner Ashby Ln., Harrisonburg (Independent City), SG100001080

Loudoun County

Amos—Goodin House, 37738 Wright Farm Dr., Purcellville, SG100001081

Roanoke County

Byrd, William, High School Historic District, 100 & 156 Highland Rd., Vinton, SG100001082

Rockingham County

Paul's Ottobine Mill, 8061 Judge Paul Rd., Dayton vicinity, SG100001083

Salem Independent City

Blair Apartments, 231 Chestnut St., Salem (Independent City), SG100001084

A request for removal has been made for the following resource(s):

LOUISIANA

Avoyelles Parish

Epps, Edwin, House, US 71, Bunkie, OT84001255

Jefferson Davis Parish

Sunny Meade, 819 Cary Ave., Jennings, OT85000837

Lafayette Parish

Salles House and Office, 512 and 514 S. Buchanan St., Lafayette, OT84001316

Orleans Parish

Washington, Booker T., High School and Auditorium, 1201 S. Roman, New Orleans, OT02000803

An additional documentation has been received for the following resource(s):

INDIANA

Marshall County

Plymouth Downtown Historic District, Roughly bounded by Center, Washington, and Water Sts., and Yellow R., Plymouth, AD98001524

Nominations submitted by Federal Preservation Officers:

The State Historic Preservation Officer reviewed the following nominations and responded to the Federal Preservation Officer within 45 days of receipt of the nominations and supports listing the properties in the National Register of Historic Places.

Carbon County

42CB1929 (Nine Mile Canyon, Utah MPS), Address Restricted, Price vicinity, MP100001085

42CB3000 (Nine Mile Canyon, Utah MPS), Address Restricted, Price vicinity, MP100001086

42CB3025 (Nine Mile Canyon, Utah MPS), Address Restricted, Price vicinity, MP100001087

42CB3063 (Nine Mile Canyon, Utah MPS), Address Restricted, Price vicinity, MP100001088

42CB3106 (Nine Mile Canyon, Utah MPS), Address Restricted, Price vicinity, MP100001089

42CB3154 (Nine Mile Canyon, Utah MPS), Address Restricted, Price vicinity, MP100001090

42CB3162 (Nine Mile Canyon, Utah MPS), Address Restricted, Price vicinity, MP100001091

42CB3029 (Nine Mile Canyon, Utah MPS), Address Restricted, Price vicinity, MP100001092

42CB3066 (Nine Mile Canyon, Utah MPS), Address Restricted, Price vicinity, MP100001093

42CB3134 (Nine Mile Canyon, Utah MPS), Address Restricted, Price vicinity, MP100001094

Family Panel (Nine Mile Canyon, Utah MPS), Address Restricted, Price vicinity, MP100001095

42CB3022 (Nine Mile Canyon, Utah MPS), Address Restricted, Price vicinity, MP100001096

42CB3023 (Nine Mile Canyon, Utah MPS), Address Restricted, Price vicinity, MP100001097

42CB3024 (Nine Mile Canyon, Utah MPS), Address Restricted, Price vicinity, MP100001098

42CB3037 (Nine Mile Canyon, Utah MPS), Address Restricted, Price vicinity, MP100001099

Duchesne County

42DC215 (Nine Mile Canyon, Utah MPS), Address Restricted, Price vicinity, MP100001100

42DC637 (Nine Mile Canyon, Utah MPS), Address Restricted, Price vicinity, MP100001101

42DC707 (Nine Mile Canyon, Utah MPS), Address Restricted, Price vicinity, MP100001102

42DC711 (Nine Mile Canyon, Utah MPS), Address Restricted, Price vicinity, MP100001103

42DC713 (Nine Mile Canyon, Utah MPS), Address Restricted, Price vicinity, MP100001104

42DC2174 (Nine Mile Canyon, Utah MPS), Address Restricted, Price vicinity, MP100001105

42DC2185 (Nine Mile Canyon, Utah MPS), Address Restricted, Price vicinity, MP100001106

42DC2186 (Nine Mile Canyon, Utah MPS), Address Restricted, Price vicinity, MP100001107

42DC2267 (Nine Mile Canyon, Utah MPS), Address Restricted, Price vicinity, MP100001108

42DC2753 (Nine Mile Canyon, Utah MPS), Address Restricted, Price vicinity, MP100001109

42DC2843 (Nine Mile Canyon, Utah MPS), Address Restricted, Price vicinity, MP100001110

42DC3452 (Nine Mile Canyon, Utah MPS), Address Restricted, Price vicinity, MP100001111

42DC3459 (Nine Mile Canyon, Utah MPS), Address Restricted, Price vicinity, MP100001112

42DC184 (Nine Mile Canyon, Utah MPS), Address Restricted, Price vicinity, MP100001113

42DC188 (Nine Mile Canyon, Utah MPS), Address Restricted, Price vicinity, MP100001114

42DC189 (Nine Mile Canyon, Utah MPS), Address Restricted, Price vicinity, MP100001115

42DC192 (Nine Mile Canyon, Utah MPS), Address Restricted, Price vicinity, MP100001116

42DC193 (Nine Mile Canyon, Utah MPS), Address Restricted, Price vicinity, MP100001117

42DC196 (Nine Mile Canyon, Utah MPS), Address Restricted, Price vicinity, MP100001118

42DC198 (Nine Mile Canyon, Utah MPS), Address Restricted, Price vicinity, MP100001119

42DC199 (Nine Mile Canyon, Utah MPS), Address Restricted, Price vicinity, MP100001120

42DC200 (Nine Mile Canyon, Utah MPS), Address Restricted, Price vicinity, MP100001121

42DC201 (Nine Mile Canyon, Utah MPS), Address Restricted, Price vicinity, MP100001122

42DC202 (Nine Mile Canyon, Utah MPS), Address Restricted, Price vicinity, MP100001123

42DC207 (Nine Mile Canyon, Utah MPS), Address Restricted, Price vicinity, MP100001124

42DC208 (Nine Mile Canyon, Utah MPS), Address Restricted, Price vicinity, MP100001125

42DC209 (Nine Mile Canyon, Utah MPS), Address Restricted, Price, MP100001126

42DC211 (Nine Mile Canyon, Utah MPS), Address Restricted, Price vicinity, MP100001127

42DC213 (Nine Mile Canyon, Utah MPS), Address Restricted, Price vicinity, MP100001128

42DC214 (Nine Mile Canyon, Utah MPS), Address Restricted, Price vicinity, MP100001129

42DC258 (Nine Mile Canyon, Utah MPS), Address Restricted, Price vicinity, MP100001130

42DC716 (Nine Mile Canyon, Utah MPS), Address Restricted, Price vicinity, MP100001131

42DC257 (Nine Mile Canyon, Utah MPS), Address Restricted, Price vicinity, MP100001132

42DC717 (Nine Mile Canyon, Utah MPS), Address Restricted, Price vicinity, MP100001133

42DC718 (Nine Mile Canyon, Utah MPS), Address Restricted, Price vicinity, MP100001134

42DC719 (Nine Mile Canyon, Utah MPS), Address Restricted, Price vicinity, MP100001135

42DC2179 (Nine Mile Canyon, Utah MPS), Address Restricted, Price vicinity, MP100001136

42DC2180 (Nine Mile Canyon, Utah MPS), Address Restricted, Price vicinity, MP100001137

42DC2183 (Nine Mile Canyon, Utah MPS), Address Restricted, Price vicinity, MP100001138

42DC2181 (Nine Mile Canyon, Utah MPS), Address Restricted, Price vicinity, MP100001139

42DC2187 (Nine Mile Canyon, Utah MPS), Address Restricted, Price, MP100001140

42DC2643 (Nine Mile Canyon, Utah MPS), Address Restricted, Price vicinity, MP100001141

42DC2747 (Nine Mile Canyon, Utah MPS), Address Restricted, Price vicinity, MP100001142

42DC2748 (Nine Mile Canyon, Utah MPS), Address Restricted, Price vicinity, MP100001143

42DC2750 (Nine Mile Canyon, Utah MPS), Address Restricted, Price vicinity, MP100001144

42DC2751 (Nine Mile Canyon, Utah MPS), Address Restricted, Price, MP100001145

42DC2841 (Nine Mile Canyon, Utah MPS), Address Restricted, Price vicinity, MP100001146

42DC206 (Nine Mile Canyon, Utah MPS), Address Restricted, Price vicinity, MP100001147

42DC216 (Nine Mile Canyon, Utah MPS), Address Restricted, Price vicinity, MP100001148

42DC217 (Nine Mile Canyon, Utah MPS), Address Restricted, Price vicinity, MP100001149

42DC720 (Nine Mile Canyon, Utah MPS), Address Restricted, Price vicinity, MP100001150

42DC715 (Nine Mile Canyon, Utah MPS), Address Restricted, Price vicinity, MP100001151

42DC2460 (Nine Mile Canyon, Utah MPS), Address Restricted, Price vicinity, MP100001152

42DC2755 (Nine Mile Canyon, Utah MPS), Address Restricted, Price vicinity, MP100001153

42DC2758 (Nine Mile Canyon, Utah MPS), Address Restricted, Price vicinity, MP100001154

42DC2829 (Nine Mile Canyon, Utah MPS), Address Restricted, Price vicinity, MP100001155

Uintah County

42UN1899 (Nine Mile Canyon, Utah MPS), Address Restricted, Price vicinity, MP100001156

42UN1913 (Nine Mile Canyon, Utah MPS), Address Restricted, Price vicinity, MP100001157

42UN1914 (Nine Mile Canyon, Utah MPS), Address Restricted, Price vicinity, MP100001158

42UN1916 (Nine Mile Canyon, Utah MPS), Address Restricted, Price vicinity, MP100001159

42UN1926 (Nine Mile Canyon, Utah MPS), Address Restricted, Price vicinity, MP100001160

42UN1931 (Nine Mile Canyon, Utah MPS), Address Restricted, Price vicinity, MP100001161

42UN1932 (Nine Mile Canyon, Utah MPS), Address Restricted, Price vicinity, MP100001162

42UN1933 (Nine Mile Canyon, Utah MPS), Address Restricted, Price vicinity, MP100001163

42UN1939 (Nine Mile Canyon, Utah MPS), Address Restricted, Price vicinity, MP100001164

42UN2027 (Nine Mile Canyon, Utah MPS), Address Restricted, Price vicinity, MP100001165

42UN2028 (Nine Mile Canyon, Utah MPS), Address Restricted, Price vicinity, MP100001166

42UN2030 (Nine Mile Canyon, Utah MPS), Address Restricted, Price vicinity, MP100001167

42UN5906 (Nine Mile Canyon, Utah MPS), Address Restricted, Price vicinity, MP100001168

42UN7042 (Nine Mile Canyon, Utah MPS), Address Restricted, Price vicinity, MP100001169

Sand Wash Ferry—Hank Stewart Cabin, (Nine Mile Canyon, Utah MPS), Address Restricted, Price vicinity, MP100001170

42UN1924 (Nine Mile Canyon, Utah MPS), Address Restricted, Price vicinity, MP100001171

42UN1927 (Nine Mile Canyon, Utah MPS), Address Restricted, Price vicinity, MP100001172

42UN1928 (Nine Mile Canyon, Utah MPS), Address Restricted, Price vicinity, MP100001173

42UN1929 (Nine Mile Canyon, Utah MPS), Address Restricted, Price vicinity, MP100001174

42UN1930 (Nine Mile Canyon, Utah MPS), Address Restricted, Price vicinity, MP100001175

42UN1934 (Nine Mile Canyon, Utah MPS), Address Restricted, Price vicinity, MP100001177

42UN1935 (Nine Mile Canyon, Utah MPS), Address Restricted, Price vicinity, MP100001178

42UN1938 (Nine Mile Canyon, Utah MPS), Address Restricted, Price vicinity, MP100001180

42UN2029 (Nine Mile Canyon, Utah MPS), Address Restricted, Price vicinity, MP100001181

42UN2031 (Nine Mile Canyon, Utah MPS), Address Restricted, Price vicinity, MP100001182

42UN5907 (Nine Mile Canyon, Utah MPS), Address Restricted, Price vicinity, MP100001183

42UN5908 (Nine Mile Canyon, Utah MPS), Address Restricted, Price vicinity, MP100001184

42UN5909 (Nine Mile Canyon, Utah MPS), Address Restricted, Price vicinity, MP100001185

42UN5910 (Nine Mile Canyon, Utah MPS), Address Restricted, Price vicinity, MP100001186

42UN5911 (Nine Mile Canyon, Utah MPS), Address Restricted, Price vicinity, MP100001187

42UN1900 (Nine Mile Canyon, Utah MPS), Address Restricted, Price vicinity, MP100001188

42UN1901 (Nine Mile Canyon, Utah MPS), Address Restricted, Price, MP100001189

42UN1902 (Nine Mile Canyon, Utah MPS), Address Restricted, Price vicinity, MP100001190

42UN1905 (Nine Mile Canyon, Utah MPS), Address Restricted, Price vicinity, MP100001191

42UN1906 (Nine Mile Canyon, Utah MPS), Address Restricted, Price, MP100001192

42UN1907 (Nine Mile Canyon, Utah MPS), Address Restricted, Price vicinity, MP100001193

42UN1909 (Nine Mile Canyon, Utah MPS), Address Restricted, Price vicinity, MP100001194

42UN1912 (Nine Mile Canyon, Utah MPS), Address Restricted, Price vicinity, MP100001195

42UN1915 Nine Mile Canyon, Utah MPS), Address Restricted, Price vicinity, MP100001196

42UN1917 (Nine Mile Canyon, Utah MPS), Address Restricted, Price vicinity, MP100001197

42UN1925 (Nine Mile Canyon, Utah MPS), Address Restricted, Price vicinity, MP100001198

42UN6699 (Nine Mile Canyon, Utah MPS), Address Restricted, Price vicinity, MP100001199

Authority: 60.13 of 36 CFR part 60

Dated: May 8, 2017.
J. Paul Loether,
Chief, National Register of Historic Places/National Historic Landmarks Program.

[FR Doc. 2017-11737 Filed 6-6-17; 8:45 am]

BILLING CODE 4312-52-P